DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Commercial Service Client Focus Group Discussions.

OMB Control Number: 0625-0254.

Form Number(s): None.

Type of Request: Regular submission.

Burden Hours: 32.

Number of Respondents: 96.

Average Hours per Response: 20.

Needs and Uses: The purpose of the focus group discussions is to gain a better understanding of actions the U.S. Commercial Service can take to improve the export-related services provided to U.S. firms. The CS proposes to modify the previously approved collection. Focus groups previously addressed awareness and branding issues, but CS proposes to revise the questions to address quality improvement issues. In providing these services, CS promotes the goods and services of small and medium-sized U.S. businesses in foreign markets.

Affected Public: Business or other for-profit organizations.

Frequency: On occasion.

Respondent's Obligation: Voluntary.

OMB Desk Officer: Wendy L. Liberante, (202) 395-3647.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Wendy Liberante, OMB Desk Officer, FAX number (202) 395-5806 or via the Internet at, Wendy_L._Liberante@omb.eop.gov.

Dated: April 23, 2009.
Gwellnar Banks,
Management Analyst, Office of the Chief Information Officer.

[FR Doc. E9-9669 Filed 4-28-09; 8:45 am]

BILLING CODE 3510-FP-P